DEPARTMENT OF TRANSPORTATION

Federal Aviation Administration

14 CFR Part 39

[Docket No. FAA-2010-0479 Directorate Identifier 2009-NM-220-AD]

RIN 2120-AA64

Airworthiness Directives; Fokker Services B.V. Model F.28 Mark 0070 and 0100 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: Recently, a brake fire was reported which was caused by a ruptured brake piston. The fire was quickly extinguished but caused damage to the paint and hydraulic/electrical harness and its components. Detailed investigation showed that a hydraulic lock must have been present close to the affected brake creating enough internal pressure to rupture the piston. The most probable scenario for the hydraulic lock is a loosened (not necessarily disconnected) brake QD [quick-disconnect] coupling. Further investigation of the service experience files at Fokker Services showed that more brake fires have occurred on aeroplanes in a pre-mod SBF100-32-127 configuration. The unsafe condition is loss of braking capability and possible brake fires, which could reduce the ability of the flightcrew to safely land the airplane. The proposed AD would require actions that are intended to address the unsafe condition described in the MCAI.

DATES: We must receive comments on this proposed AD by July 6, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Fokker Services B.V., Technical Services Dept., P.O. Box 231, 2150 AE Nieuw-Vennep, the Netherlands; telephone +31 (0)252-627-350; fax +31 (0)252 627 211; e-mail technicalservices.fokkerservices@stork.com; Internet http://www.myfokkerfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2010-0479; Directorate Identifier 2009-NM-220-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0176, dated August 6, 2009 (referred to after this as “the MCAI”), to correct an unsafe condition for the specified products. The MCAI states:

During 1995, several reports were received of brake QD [quick-disconnect] couplings loosened and/or disconnected during operation. In a few cases, residual brake pressure was trapped in the affected brake, causing asymmetric braking and/or resulting in hot brakes. Loosened couplings may cause a hydraulic leak with the risk of a brake fire. Investigation revealed that the installation of the brake QD couplings must be done with care and that the locking teeth on the light alloy sleeve are prone to wear. The Fokker 70/100 Aircraft Maintenance Manual (AMM) has been revised to include additional information to ensure correct removal and installation of the couplings.

In 1997, Fokker Services issued SBF100-32-106, recommending the introduction of QD couplings with corrosion resistant steel (CRES) sleeves that would prevent excessive wear of the locking teeth on the light alloy sleeve. In response to more reported cases of loosened QD couplings resulting in brake problems, further improved QD couplings were introduced in 2001 through SBF100-32-127. These couplings increase the reliability of the brake system.

Recently, a brake fire was reported which was caused by a ruptured brake piston. The fire was quickly extinguished but caused damage to the paint and hydraulic/electrical harness and its components. Detailed investigation showed that a hydraulic lock must have been present close to the affected brake creating enough internal pressure to rupture the piston. The most probable scenario for the hydraulic lock is a loosened (not necessarily disconnected) brake QD coupling. Further investigation of the service experience files at Fokker Services showed that more brake fires have occurred on aeroplanes in a pre-mod SBF100-32-127 configuration.

In order to reduce the probability of a fluid fire as described in CS (certification specification) 25.863, additional action is deemed necessary.

For the reasons described above, this AD requires repetitive [detailed] inspections [for wear] of the affected brake QD couplings and replacement of the QD couplings with improved units. Installation of the improved QD couplings terminates the repetitive inspections requirements.

The unsafe condition is loss of braking capability and possible brake fires, which could reduce the ability of the flightcrew to safely land the airplane. You may obtain further information by examining the MCAI in the AD docket.

Relevant Service Information

Fokker Services B.V. has issued Service Bulletin SBF100-32-156, Revision 1, dated June 29, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 16 products of U.S. registry. We also estimate that it would take about 4 work-hours per product to comply with the basic requirements of this proposed AD. The average labor rate is $85 per work-hour. Required parts would cost about $4,814 per product. Where the service information lists required parts costs that are covered under warranty, we have assumed that there will be no charge for these costs. As we do not control warranty coverage for affected parties, some parties may incur costs higher than estimated here. Based on these figures, we estimate the cost of the proposed AD on U.S. operators to be $82,464, or $5,154 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2010-0479; Directorate Identifier 2009-NM-220-AD.

Comments Due Date

(a) We must receive comments by July 6, 2010.

Affected ADs

(b) None.

Applicability

(c) This AD applies to Fokker Services B.V. Model F.28 Mark 0070 and 0100 airplanes, certificated in any category, all serial numbers, with any brake quick-disconnect (QD) coupling having part number (P/N) AE70690E, AE70691E, AE99111E, or AE99119E installed.

Subject

(d) Air Transport Association (ATA) of America Code 32: Landing Gear.

Reason

(e) The mandatory continuing airworthiness information (MCAI) states:

During 1995, several reports were received of brake QD couplings loosened and/or disconnected during operation. In a few cases, residual brake pressure was trapped in the affected brake, causing asymmetric braking and/or resulting in hot brakes. Loosened couplings may cause a hydraulic leak with the risk of a brake fire. Investigation revealed that the installation of the brake QD couplings must be done with care and that the locking teeth on the light alloy sleeve are prone to wear. The Fokker 70/100 Aircraft Maintenance Manual (AMM) has been revised to include additional information to ensure correct removal and installation of the couplings.

In 1997, Fokker Services issued SBF100-32-106, recommending the introduction of QD couplings with corrosion resistant steel (CRES) sleeves that would prevent excessive wear of the locking teeth on the light alloy sleeve. In response to more reported cases of loosened QD couplings resulting in brake problems, further improved QD couplings were introduced in 2001 through SBF100-32-127. These couplings increase the reliability of the brake system.

Recently, a brake fire was reported which was caused by a ruptured brake piston. The fire was quickly extinguished but caused damage to the paint and hydraulic/electrical harness and its components. Detailed investigation showed that a hydraulic lock must have been present close to the affected brake creating enough internal pressure to rupture the piston. The most probable scenario for the hydraulic lock is a loosened (not necessarily disconnected) brake QD coupling. Further investigation of the service experience files at Fokker Services showed that more brake fires have occurred on aeroplanes in a pre-mod SBF100-32-127 configuration.

In order to reduce the probability of a fluid fire as described in CS (certification specification) 25.863, additional action is deemed necessary.

For the reasons described above, this AD requires repetitive [detailed] inspections [for wear] of the affected brake QD couplings and replacement of the QD couplings with improved units. Installation of the improved QD couplings terminates the repetitive inspections requirements.

The unsafe condition is loss of braking capability and possible brake fires, which could reduce the ability of the flightcrew to safely land the airplane.

Compliance

(f) You are responsible for having the actions required by this AD performed within the compliance times specified, unless the actions have already been done.

Actions

(g) Do the following actions.

(1) Within 6 months after the effective date of this AD, do a detailed inspection for wear of the brake QD couplings by measuring dimension “A,” in accordance with Part 1 of the Accomplishment Instructions of Fokker Service Bulletin SBF100-32-156, Revision 1, dated June 29, 2009. Repeat the inspection thereafter at the applicable intervals specified in Table 1 of this AD, except as required by paragraph (g)(2) of this AD.

Table 1—Repetitive Inspection Intervals
If dimension “A” is— | Repeat the inspection at intervals not to exceed—
Greater than or equal to 0.76 mm | 6 months.
Less than 0.76 mm but greater than or equal to 0.72 mm | 3 months.
Less than 0.72 mm but greater than or equal to 0.68 mm | 30 days.
Less than 0.68 mm but greater than or equal to 0.61 mm | 7 days.
Less than 0.61 mm but greater than 0.53 mm | 24 hours.

(2) If, during any inspection required by paragraph (g)(1) of this AD, dimension “A” on any brake QD coupling is less than or equal to 0.53 mm, before further flight, replace the affected brake QD coupling with an improved unit having P/N AE73059E or P/N AE73091E, as applicable, in accordance with Part 2 of the Accomplishment Instructions of Fokker Service Bulletin SBF100-32-156, Revision 1, dated June 29, 2009.

(3) Within 24 months after the effective date of this AD, replace all remaining brake QD couplings having P/N AE70690E, P/N AE70691E, P/N AE99111E, and P/N AE99119E with improved units, in accordance with Part 2 of the Accomplishment Instructions of Fokker Service Bulletin SBF100-32-156, Revision 1, dated June 29, 2009.

(4) Installation of brake QD couplings with an improved unit having P/N AE73059E or P/N AE73091E at all locations terminates the repetitive inspections required by paragraph (g)(1) of this AD.

(5) Replacing the brake QD couplings is also acceptable for compliance with the corresponding requirements of paragraphs (g)(1), (g)(2), and (g)(3) of this AD if done before the effective date of this AD, in accordance with any of the service bulletins specified in Table 2 of this AD:

Table 2—Fokker Credit Service Bulletins
Fokker Service Bulletins | Revision | Date
Fokker Service Bulletin SBF100-32-127 | Original | July 20, 2001.
Fokker Service Bulletin SBF100-32-127 | 1 | March 6, 2009.
Fokker Service Bulletin SBF100-32-156 | Original | March 6, 2009.

FAA AD Differences

Note 1: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2009-0176, dated August 6, 2009; and Fokker Service Bulletin SBF100-32-156, Revision 1, dated June 29, 2009; for related information.

Issued in Renton, Washington, on May 4, 2010.
Ali Bahrami,
Manager, Transport Airplane Directorate, Aircraft Certification Service.

[FR Doc. 2010-11904 Filed 5-18-10; 8:45 am]

BILLING CODE 4910-13-P